DEPARTMENT OF THE INTERIOR

Bureau of Indian Affairs

Land Acquisitions: Mississippi Band of Choctaw Indians

AGENCY: Bureau of Indian Affairs, Interior.

ACTION: Notice of transfer of federally owned lands.

SUMMARY: The Secretary of the Interior (Secretary) accepted the transfer of approximately 163.48 acres from the Director, Real Property Division, Atlanta Regional Office, U.S. General Services Administration (GSA), without reimbursement, to be held in trust for the benefit and use of the Mississippi Band of Choctaw Indians, Choctaw Reservation, Mississippi (Tribe). This notice announces that the Secretary took the approximately 162.48 acres into trust for the Tribe on the dates set forth in this notice.

FOR FURTHER INFORMATION CONTACT: Randall Trickey, Regional Realty Officer, Eastern Region, Bureau of Indian Affairs, 545 Marriott Dr., Suite 700, Nashville, TN 37214; Telephone: (615) 564-6770, Email: Randall.Trickey@bia.gov.

SUPPLEMENTARY INFORMATION: This notice is published in the exercise of authority delegated by the Secretary of the Interior to the Assistant Secretary—Indian Affairs by 230 Departmental Manual 2. Pursuant to authority contained in the Federal Property and Administrative Services Act of 1949, as amended by Public Law 93-599 dated January 2, 1975 (88 Stat. 1954), the below described property was on the dates set out below transferred by the Director, Real Property Division, Atlanta Regional Office of GSA to the Secretary, without reimbursement, to be held in trust for the benefit and use of the Tribe, and were taken into trust for the Tribe on the dates set forth as follows:

Mississippi Choctaw Reservation Community | County records book and page of recorded deed originally conveying the title to the U.S. | Date of original deed to U.S. for Choctaw school lands and acreage | Date of GSA transfer to U.S. to be held in trust for the tribe | Township | Range | Section
Boque Chitto | NESHOBA LLL/241 | 2/22/30 (15.00 ac) | 10/27/97 | 11N | 13E | 2
Conehatta | NEWTON 52/206 | 6/29/27 (5.40 ac) | 10/27/97 | 07N | 10E | 15
Conehatta | NEWTON 70/101 | 6/12/39 (0.88 ac) | 10/27/97 | 07N | 10E | 10
Conehatta | NEWTON 114/377 | 5/3/57 (2.65 ac) | 10/27/97 | 07N | 10E | 10
Conehatta | NEWTON 114/377 | 5/3/57 (1.85 ac) | 10/27/97 | 07N | 10E | 15
Pearl River | NESHOBA YY/254 | 8/13/20 (65.00 ac) | 4/3/95 | 11N | 10E | 25
Pearl River | NESHOBA A61/107 | 6/11/64 (15.00 ac) | 4/3/95 | 11N | 10E | 25
Red Water | LEAKE 21/143 | 5/25/23 (20.00 ac) | 10/27/97 | 11N | 07E | 36
Standing Pine | LEAKE 15/149 | 9/2/19 (30.00 ac) | 4/3/95 | 10N | 08E | 35
Tucker | NESHOBA YY/231 | 1/30/20 (7.70 ac) | 10/27/97 | 10N | 12E | 22

Dated: October 11, 2012.
Kevin K. Washburn,
Assistant Secretary—Indian Affairs.

[FR Doc. 2012-25811 Filed 10-18-12; 8:45 am]

BILLING CODE 4310-W7-P